DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Wayne County, Pennsylvania (All Jurisdictions)
Docket No.: FEMA-B-1223
Ariel Creek | Approximately 400 feet downstream of Goose Pond Road | +1255 | Township of Lake, Township of Salem.
| Approximately 1,500 feet upstream of Lake Ariel Highway | +1434
Balls Creek | At the West Branch Delaware River confluence | +940 | Township of Buckingham, Township of Scott.
| Approximately 1.5 miles upstream of Carl Sands Road | +1277
Beaverdam Creek | At the Delaware River confluence | +734 | Township of Damascus.
| Approximately 4.1 miles upstream of Buckley Lane | +1158
Carley Brook | Approximately 200 feet upstream of the Lackawaxen River confluence | +957 | Borough of Honesdale, Township of Berlin, Township of Dyberry, Township of Oregon, Township of Texas.
| Approximately 0.5 mile upstream of Highhouse Road | +1150
Delaware River | At the Pike County boundary | +691 | Township of Berlin, Township of Buckingham, Township of Damascus, Township of Manchester.
| At the West Branch Delaware River confluence | +904
Equinunk Creek | At the Delaware River confluence | +871 | Township of Buckingham, Township of Manchester.
| Approximately 1,300 feet upstream of Crooked Creek Road | +1108
Holbert Creek | Approximately 400 feet upstream of the Lackawaxen River confluence | +942 | Township of Berlin, Township of Texas.
| Approximately 0.6 mile upstream of Garrett Hill Road | +1177
Little Equinunk Creek (backwater effects from Delaware River) | From the Delaware River confluence to approximately 1,230 feet upstream of the Delaware River confluence | +815 | Township of Manchester.
Middle Creek | Approximately 1.3 miles downstream of Middle Creek Road | +1145 | Township of Cherry Ridge, Township of Lake, Township of South Canaan.
| Approximately 0.5 mile upstream of Cortez Road | +1357
Mill Creek | Approximately 50 feet upstream of the Wallenpaupack Creek confluence | +1375 | Township of Dreher.
| Approximately 1.2 miles upstream of South Sterling Road | +1601
Moss Hollow Creek | Approximately 0.3 mile upstream of the West Branch Wallenpaupack Creek confluence | +1289 | Township of Salem.
| Approximately 1.8 miles upstream of Ledgedale Road | +1383
South Branch Equinunk Creek | At the Equinunk Creek confluence | +908 | Township of Manchester.
| Approximately 100 feet upstream of the Equinunk Creek confluence | +910
Tributary to Middle Creek | At the Middle Creek confluence | +1205 | Township of South Canaan.
| Approximately 1.4 miles upstream of South Baker Road | +1396
Van Auken Creek | At the Lake Ladore confluence | +1369 | Borough of Waymart, Township of Canaan.
| Approximately 1,360 feet upstream of Roosevelt Highway | +1864
West Branch Delaware River | At the Delaware River confluence | +904 | Township of Buckingham, Township of Scott.
| At the Delaware County boundary | +952
* National Geodetic Vertical Datum.
+ North American Vertical Datum.
# Depth in feet above ground.
‸ Mean Sea Level, rounded to the nearest 0.1 meter.
ADDRESSES
Borough of Honesdale
Maps are available for inspection at the Borough Municipal Building, 958 Main Street, Honesdale, PA 18431.
Borough of Waymart
Maps are available for inspection at the Borough Municipal Building, 116 South Street, Waymart, PA 18472.
Township of Berlin
Maps are available for inspection at the Berlin Township Municipal Building, 50 Milanville Road, Beach Lake, PA 18405.
Township of Buckingham
Maps are available for inspection at the Buckingham Township Municipal Building, 177 Travis Road, Starrucca, PA 18462.
Township of Canaan
Maps are available for inspection at the Canaan Township Municipal Building, 46 Gallik Road, Waymart, PA 18472.
Township of Cherry Ridge
Maps are available for inspection at the Cherry Ridge Township Municipal Building, 269 Spinner Road, Honesdale, PA 18431.
Township of Damascus
Maps are available for inspection at the Township Municipal Building, 60 Conklin Hill Road, Damascus, PA 18415.
Township of Dreher
Maps are available for inspection at the Dreher Township Municipal Building, 899 Main Street, Newfoundland, PA 18445.
Township of Dyberry
Maps are available for inspection at the Dyberry Township Municipal Building, 44 Cabin Corner, Honesdale, PA 18431.
Township of Lake
Maps are available for inspection at the Lake Township Municipal Building, 1270 Easton Turnpike, Lake Ariel, PA 18436.
Township of Manchester
Maps are available for inspection at the Manchester Township Municipal Building, 3881 Hancock Highway, Equinunk, PA 18417.
Township of Oregon
Maps are available for inspection at the Oregon Township Municipal Building, 474 Fox Hill Road, Honesdale, PA 18431.
Township of Salem
Maps are available for inspection at the Salem Township Municipal Building, 3 Savitz Road, Moscow, PA 18444.
Township of Scott
Maps are available for inspection at the Scott Township Municipal Building, 197 Sherman Road, Susquehanna, PA 18847.
Township of South Canaan
Maps are available for inspection at the South Canaan Township Municipal Building, 46 Lake Quinn Road, Waymart, PA 18472.
Township of Texas
Maps are available for inspection at the Texas Township Municipal Building, 320 Shady Lane, Honesdale, PA 18431.

(Catalog of Federal Domestic Assistance No. 97.022, “Flood Insurance.”)

James A. Walke,
Acting Deputy Associate Administrator for Mitigation, Department of Homeland Security, Federal Emergency Management Agency.

[FR Doc. 2013-02945 Filed 2-8-13; 8:45 am]

BILLING CODE 9110-12-P